COMMISSION ON CIVIL RIGHTS

Revised Sunshine Act Meeting Notice

AGENCY: United States Commission on Civil Rights.

ACTION: Notice of Commission Telephonic Business Meeting.

DATES: Monday, December 28, 2015, at 10 a.m. EST.

ADDRESSES: Telephonic Business Meeting.

FOR FURTHER INFORMATION CONTACT: Mauro Morales, Staff Director at (202) 376-7700.

SUPPLEMENTARY INFORMATION: This business meeting is open to the public by telephone only. The public may listen on the following toll-free number: 1-888-278-8476 with conference ID number 8154942.

Hearing-impaired persons who will attend the briefing and require the services of a sign language interpreter should contact Pamela Dunston at (202) 376-8105 or at signlanguage@usccr.gov at least seven business days before the scheduled date of the meeting.

Meeting Agenda

I. Approval of Agenda

II. Program Planning

• Presentation of town hall budget estimates for the environmental justice report

• Discussion and vote on town hall meeting plan

• Discussion on plan for revision of Native American “Quiet Crisis”

V. Adjourn Meeting

Dated: December 22, 2015.
David Mussatt,
Regional Programs Unit Chief, U.S. Commission on Civil Rights.

[FR Doc. 2015-32672 Filed 12-23-15; 11:15 am]

BILLING CODE 6335-01-P